DEPARTMENT OF THE INTERIOR

Bureau of Land Management

[OR-930-1220-PA; HAG-04-0236]

Notice of Proposed Supplementary Rules on Public Land in Oregon and Washington

AGENCY: Bureau of Land Management, Interior.

ACTION: Proposed supplementary rules.

SUMMARY: The Bureau of Land Management (BLM) Oregon State Office is proposing supplementary rules for public lands within the States of Oregon and Washington. The rules are needed in order to protect the area's natural resources and provide for public health and safety. The rules are based on existing regulations and address camping and occupancy, vehicles and off-road vehicles, fire, conduct, firearms, sanitation and refuse and permits. The supplementary rules promote consistency between BLM and other natural resource agencies including the U.S. Forest Service, National Park Service, Oregon Parks and Recreation, and the Washington Department of Natural Resources.

DATES: Comments on the proposed supplementary rules must be received or postmarked by March 28, 2005 to be assured consideration. In developing final supplementary rules, BLM may not consider comments postmarked or received in person or by electronic mail after this date.

ADDRESSES: Comments may be mailed or hand-delivered to the Office of Law Enforcement, BLM, Oregon State Office, P.O. Box 2965, Portland, Oregon 97204.

You may also comment via Internet e-mail: http://www.or_proposed_rule@blm.gov (Include Attn: James Huff in your subject line).

FOR FURTHER INFORMATION CONTACT: James Huff, Oregon State Office, P.O. Box 2965, Portland, Oregon 97204, telephone (503) 808-6410. Persons who use a telecommunications device for the deaf (TDD) may contact this individual by calling the Federal Information Relay Service (FIRS) at (800) 877-8339, 24 hours a day, 7 days a week.

SUPPLEMENTARY INFORMATION:

I. Public Comment Procedures

II. Background

III. Procedural Matters

I. Public Comment Procedures

Electronic Access and Filing Address

You may view an electronic version of these proposed supplementary rules at BLM's Internet home page: http://www.blm.gov. You may also comment via the Internet to http://www.or_proposed_rule@blm.gov. Please also include your name and return address in your Internet message, and include “attn: James Huff.” If you do not receive a confirmation from the system that we have received your Internet message, contact us directly at (202) 452-5030.

Written Comments

Written comments on the proposed supplementary rules should be specific, confined to issues pertinent to the proposed supplementary rules, and should explain the reason for any recommended change. Where possible, comments should reference the specific section or paragraph of the proposal which the comment is addressing. BLM may not necessarily consider or include in the Administrative Record for the final rule comments that BLM receives after the close of the comment period (see DATES), unless they are postmarked or electronically dated before the deadline, or comments delivered to an address other than those listed above (See ADDRESSES).

Comments, including names, street addresses, and other contact information of respondents, will be available for public review at 333 SW 1st Avenue, Portland, Oregon, during regular business hours (7:45 a.m. to 3:45 p.m.), Monday through Friday, except Federal holidays. Individual respondents may request confidentiality. If you wish to request that BLM consider withholding your name, street address, and other contact information (such as: Internet address FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Background

BLM is proposing these supplementary rules in order to promote consistency between BLM (on issues of camping and occupancy, vehicles and off-road vehicles, fire, conduct, firearms, sanitation and refuse) and other land management agencies including the U.S. Forest Service, National Park Service, Oregon State Parks and Recreation, and the Washington Department of Natural Resources. These supplementary rules will apply to the public lands within the states of Oregon and Washington. These rules are necessary to protect the area's natural resources and to provide for the public's health and safety, provide needed guidance in the areas of camping, occupancy, and recreation, and allow for the assessment of penalties that are more commensurate with the level of the prohibited acts.

The supplementary rules are proposed under the authority of the Federal Land Policy and Management Act (FLPMA), 43 U.S.C. 1740, which applies to the public lands generally. This Act sets penalties at the Class A misdemeanor level. These proposed supplementary rules are also proposed under the authority of the Taylor Grazing Act, 43 U.S.C. 315a, which sets penalties at the Infraction level (Class C misdemeanor), and the Sikes Act, 16 U.S.C. 670h(c)(5), which sets penalties at the Petty Offense level (Class B misdemeanor). The Taylor Grazing Act applies to areas within grazing districts and leased grazing lands, which encompasses most BLM public lands east of the Cascade Mountains in Oregon and Washington and lands in southwest Oregon. The Taylor Grazing Act directs the Secretary to make such rules and regulations as are necessary to accomplish the purposes of the Act. These purposes include regulating the occupancy and use of public lands and preserving the land and its resources from destruction or unnecessary injury. The Sikes Act applies to areas where BLM, in cooperation with State agencies and following comprehensive plans developed under 16 U.S.C. 670h, plans, develops, maintains, and coordinates programs for the conservation and rehabilitation of wildlife, fish, and game. This type of coordination occurs predominantly west of the Cascade Mountains under the Northwest Forest Plan, and includes the majority of those public lands. FLPMA, the Taylor Grazing Act, and the Sikes Act are all cited as authorities for promulgating 43 CFR 8365.1-6, the regulatory authority for supplementary rules.

The State of Oregon recently revised its requirement for ORV registration, placing the burden of requiring registration on each land owner. Supplementary rule b.5 (below) makes ORV registration a requirement on public lands, as endorsed by the Oregon Parks and Recreation Department.

III. Procedural Matters

Executive Order 12866, Regulatory Planning and Review

These proposed supplementary rules are not a significant regulatory action and are not subject to review by Office of Management and Budget under Executive Order 12866. These proposed supplementary rules will not have an effect of $100 million or more on the economy. They will not adversely affect in a material way the economy, productivity, competition, jobs, the environment, public health or safety, or State, local, or tribal governments or communities. These proposed supplementary rules will not create a serious inconsistency or otherwise interfere with an action taken or planned by another agency. These proposed supplementary rules do not alter the budgetary effects of entitlements, grants, user fees, or loan programs or the rights or obligations of their recipients; nor do they raise novel legal or policy issues. They merely impose rules of conduct and impose other limitations on certain recreational activities on certain public lands to protect natural resources and human health and safety.

Clarity of the Supplementary Rules

Executive Order 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the description of the proposed supplementary rules in the SUPPLEMENTARY INFORMATION section of this preamble helpful to your understanding of the proposed supplementary rules? How could this description be more helpful in making the proposed supplementary rules easier to understand?

Please send any comments you have on the clarity of the supplementary rules to the address specified in the ADDRESSES section.

National Environmental Policy Act

BLM has prepared an environmental assessment (EA) and has found that the proposed supplementary rules would not constitute a major Federal action significantly affecting the quality of the human environment under section 102(2)(C) of the Environmental Protection Act of 1969 (NEPA), 42 U.S.C. 4332(2)(C). A detailed statement under NEPA is not required. BLM has placed the EA and the Finding of No Significant Impact (FONSI) on file in the BLM Administrative Record at the address specified in the ADDRESSES section. BLM invites the public to review these documents and suggests that anyone wishing to submit comments in response to the EA and FONSI do so in accordance with the Written Comments section above.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules should have no effect on business entities of whatever size. They merely would impose reasonable restrictions on certain recreational activities on certain public lands to protect natural resources and the environment, and human health and safety. Therefore, BLM has determined under the RFA that these proposed supplementary rules would not have a significant economic impact on a substantial number of small entities.

Small Business Regulatory Enforcement Fairness Act (SBREFA)

These proposed supplementary rules are not a “major rule” as defined at 5 U.S.C. 804(2). They would not result in an effect on the economy of $100 million or more, in an increase in costs or prices, or in significant adverse effects on competition, employment, investment, productivity, innovation, or on the ability of United States-based enterprises to compete with foreign-based enterprises in domestic and export markets. They would merely impose reasonable restrictions on certain recreational activities on certain public lands to protect natural resources and the environment, and human health and safety.

Unfunded Mandates Reform Act

These proposed supplementary rules do not impose an unfunded mandate on State, local, or tribal governments or the private sector of more than $100 million per year; nor do these proposed supplementary rules have a significant or unique effect on State, local, or tribal governments or the private sector. They would merely impose reasonable restrictions on certain recreational activities on certain public lands to protect natural resources and the environment, and human health and safety. They also specifically call for compliance with State laws and regulations. Therefore, BLM is not required to prepare a statement containing the information required by the Unfunded Mandates Reform Act (2 U.S.C. 1531 et seq.)

Executive Order 12630, Governmental Actions and Interference With Constitutionally Protected Property Rights (Takings)

The proposed supplementary rules do not represent a government action capable of interfering with Constitutionally protected property rights. Therefore, the Department of the Interior has determined that the rule would not cause a taking of private property or require preparation of a takings assessment under this Executive Order.

Executive Order 13132, Federalism

The proposed supplementary rules would not have a substantial direct effect on the States, on the relationship between the National Government and the States, or on the distribution of power and responsibilities among the various levels of government. The proposed supplementary rules in several instances call for compliance with State law. Therefore, in accordance with Executive Order 13132, BLM has determined that these proposed supplementary rules do not have sufficient Federalism implications to warrant preparation of a Federalism Assessment.

Executive Order 12988, Civil Justice Reform

Under Executive Order 12988, the Office of the Solicitor determined that these proposed supplementary rules would not unduly burden the judicial system and that it meets the requirements of sections 3(a) and 3(b)(2) of the Order.

Executive Order 13175, Consultation and Coordination With Indian Tribal Governments

In accordance with Executive Order 13175, we have found that these proposed supplementary rules do not include policies that have tribal implications.

Paperwork Reduction Act

These proposed supplementary rules do not contain information collection requirements that the Office of Management and Budget must approve under the Paperwork Reduction Act of 1995, 44 U.S.C. 3501 et seq.

Author

The principal author of these proposed supplementary rules is James Huff, State Staff Ranger, Oregon State Office, P.O. Box 2965, Portland, Oregon 97204.

For the reasons stated in the preamble and under the authorities for supplementary rules found under 43 CFR 8365.1-6, 43 U.S.C. 1740, 16 U.S.C. 670h(c)(5), and 43 U.S.C. 315a, the Oregon/Washington State Director, Bureau of Land Management proposes to issue supplementary rules for public lands managed by the BLM in Oregon and Washington, to read as follows:

Supplementary Rules for Oregon and Washington

Definitions

Camping: The erecting of a tent or shelter of natural or synthetic material, preparing a sleeping bag or other bedding material for use, parking of a motor vehicle, motor home or trailer, or mooring of a vessel for the apparent purpose of overnight occupancy.

Occupancy: Full or part-time residence on public lands. It also means activities that involve residence; the construction, presence, or maintenance of temporary or permanent structures that may be used for such purposes; or the use of a watchman or caretaker for the purpose of monitoring activities. Residence or structures include, but are not limited to, barriers to access, fences, tents, motor homes, trailers, cabins, houses, buildings, and storage of equipment or supplies.

Refuse: Trash, garbage, rubbish, waste papers, bottles or cans, debris, litter, oil, solvents, liquid waste, or other discarded materials.

Off Road Vehicle (ORV): Any motorized vehicle capable of, or designed for, travel on or immediately over land, water, or other natural terrain, excluding: (1) any non-amphibious registered motorboat; (2) any military, fire, emergency, or law enforcement vehicle while being used for emergency purposes; (3) any vehicle whose use is expressly authorized by the authorized officer, or otherwise officially approved; (4) vehicles in official use; and (5) any combat or combat support vehicle when used in times of national defense emergencies.

a. Camping and Occupancy

1. You must not camp longer than 14 days in a 28 day period at any one site on public land.

2. After the 14 days have been reached, you must move at least 25 air miles away from the previously occupied site.

3. You must not leave any personal property or refuse after vacating the campsite or site.

4. You must not leave personal property unattended in a day use area, campground, designated recreation area or on public lands for more than 24 hours.

5. You must not establish occupancy, take possession of, or otherwise use public lands for residential purposes except as allowed under 43 CFR 3715.2, 3715.2-1, 3715.5, 3715.6, or with prior written authorization from the BLM.

6. You must not block, restrict, place signs or otherwise interfere with the use of a road, trail, gate or other legal access to and through public lands without prior written authorization from the BLM.

7. You must not camp in any area posted as closed to camping. Closure must be attained through a final land use planning decision, Federal Register notification, temporary closure order, or hazardous condition.

8. If a campsite charges fees, you must register or pay camping fees within 30 minutes of occupying the camp site.

9. Whenever camping in a developed campground or designated recreation area with established campsites, you must camp in a designated site.

10. You must crate, cage, restrain on a leash which shall not exceed six feet in length, or otherwise physically control a pet or animal at all times while in a developed recreation site.

11. You must pick up and properly dispose of pet excrement.

b. Vehicles and ORV

1. You must not park or leave a vehicle or ORV in violation of posted instructions as established through a final land use planning decision, Federal Register notification, or other planning process.

2. You must not stop or park a vehicle or ORV in a manner that obstructs or interferes with the normal flow of traffic, or creates a hazardous condition.

3. You must not exceed posted speed limits.

4. You must possess and properly display the current Oregon ORV registration sticker as required by BLM on public land in Oregon in accordance with Oregon Revised Statutes (ORS).

5. You must not operate a motorized vehicle or ORV in violation of state laws and regulations relating to use, standards, registration, operation, and inspection.

6. You must not operate an ORV on those areas, routes, and trails closed to off-road vehicle use as established through a final land use planning decision, Federal Register notification, or other planning process.

7. You must not operate your ORV without a safety flag, where required by State law.

8. You must not operate an ORV with a muffler that exceeds legal decibel levels as required by State law.

9. You must not operate an ORV without required equipment as found in 43 CFR 8343.1 and State law.

10. You must not operate an ORV carelessly, recklessly, or without regard for the safety of any person, or in a manner that endangers, or is likely to endanger, a person or property.

11. You must not operate an ORV in a manner which damages or unreasonably disturbs the land, wildlife, improvements, property, or vegetative resources.

c. Fire

1. You must not fail to observe state fire restrictions or regulations.

2. You must not violate fire prevention orders.

3. You must not leave a campfire unattended without fully extinguishing it.

4. You must not use or possess fireworks in violation of State or Federal fire prevention order, law, or regulation.

5. You must not allow a fire to escape from your control.

6. You must not carelessly or negligently throw or place any ignited substance that may cause a fire.

7. You must not fire any tracer bullet or incendiary ammunition.

8. You must not throw any accelerant into a fire.

9. You must not build a fire outside of fire rings or other fire structures provided by BLM, where these are present and required by fire restrictions.

d. Conduct

1. You must not fail to disperse at the direction of an authorized officer.

2. You must not engage in fighting, threatening, abusive, indecent, obscene, or offensive behavior.

3. You must not make unreasonable noise based on location, time of day, proximity of neighbors, or in violation of posted regulations or direction from an authorized officer, or other factors that would govern the conduct of a reasonably prudent person.

4. You must not create or maintain a hazardous or physically offensive condition.

e. Firearms

1. You must not discharge a firearm or device that is designed for and capable of expelling a projectile by use of spring, air, gas or other explosive at any time into or from any area posted as a no-shooting or a safety zone, or into or from any developed camp or recreation site. No-shooting zones are established through a final land use planning decision, Federal Register notification, or other planning process.

2. You must not discharge or possess a firearm or explosive device in violation of State law.

f. Sanitation and Refuse

1. You must not dispose of any cans, bottles or other refuse except in designated places or receptacles.

2. You must not dump household, commercial, or industrial refuse onto public lands.

3. You must not possess glass containers where prohibited as established through a final land use planning decision, Federal Register notification, or other planning process.

4. You must not litter.

g. Other Acts

1. You must not violate state laws relating to the use, possession, or consumption of alcohol or controlled substances.

Penalities

On public lands in grazing districts (see 43 U.S.C. 315a) and on public lands leased for grazing under 43 U.S.C. 315m, any person who violates any of these supplementary rules may be tried before a United States Magistrate and fined no more than $500.00. Such violations may also be subject to the enhanced fines provided for by 18 U.S.C. 3571.

On public lands subject to a conservation and rehabilitation program implemented by the Secretary under 16 U.S.C. 670g et seq. (Sikes Act), any person who violates any of these supplementary rules may be tried before a United States Magistrate and fined no more than $500.00 or imprisoned for no more than six months, or both. Such violations may also be subject to the enhanced fines provided for by 18 U.S.C. 3571.

On public lands under section 303(a) of the Federal Land Policy and Management Act of 1976, 43 U.S.C. 1733 (a) and 43 CFR 8360-7, any person who violates any of these supplementary rules on public lands within the boundaries established in the rules may be tried before a United States Magistrate and fined no more than $1,000 or imprisoned for no more than 12 months, or both. Such violations may also be subject to the enhanced fines provided for by 18 U.S.C. 3571.

Elaine M. Brong,
Oregon State Director, Bureau of Land Management.

[FR Doc. 05-3421 Filed 2-24-05; 8:45 am]

BILLING CODE 4310-33-P